DEPARTMENT OF EDUCATION

Extension of the Application Deadline Date; Applications for New Awards; Fulbright-Hays Doctoral Dissertation Research Abroad Fellowship Program

AGENCY: Office of Postsecondary Education, Department of Education.

ACTION: Notice.

SUMMARY: On October 30, 2024, the Department of Education issued a notice inviting applications (NIA) for fiscal year (FY) 2025 for the Fulbright-Hays Doctoral Dissertation Research Abroad (DDRA) Fellowship Program. The NIA established a deadline date of January 15, 2025, for the transmittal of applications. This extension notice extends the deadline for the transmittal of applications to January 29, 2025.

DATES: Deadline for Transmittal of Applications: January 29, 2025.

FOR FURTHER INFORMATION CONTACT: Pamela J. Maimer, Telephone: (202) 453-6891. Email: DDRA@ed.gov.

If you are deaf, hard of hearing, or have a speech disability and wish to access telecommunications relay services, please dial 7-1-1.

SUPPLEMENTARY INFORMATION: On October 30, 2024, the Department of Education published in the Federal Register an NIA for fiscal year (FY) 2025 for the DDRA Fellowship Program. 89 FR 86323. The NIA established a deadline date of January 15, 2025, for the transmittal of applications.

In consideration of upcoming holiday observances and academic year winter breaks at eligible institutions, we are extending the deadline for the transmittal of applications to give eligible institutional and individual applicants more time—until January 29, 2025—to prepare and submit their applications.

Applicants that have already timely submitted applications under the FY 2025 DDRA competition may resubmit applications on or before the extended application deadline of January 29, 2025, but are not required to do so. If a new application is not submitted, the Department will use the application that was submitted by the original deadline. If a new application is submitted, the Department will consider the application that is last submitted and timely received by 11:59:59 p.m., eastern time, on January 29, 2025.

Note: This extension notice only revises the application transmittal date. All applications must comply with the program requirements and the application standards published in the October 30, 2024 notice.

Assistance Listing Number: 84.022A.

Program Authority: 22 U.S.C. 2452(b)(6).

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Nasser H. Paydar,
Assistant Secretary for Postsecondary Education.

[FR Doc. 2024-28290 Filed 12-2-24; 8:45 am]

BILLING CODE 4000-01-P